ENVIRONMENTAL PROTECTION AGENCY

[EPA-HQ-OPP-2011-0374; FRL-10959-01-OCSPP]

DCPA Registration Review; Draft Occupational and Residential Risk Assessment; Notice of Availability

AGENCY: Environmental Protection Agency (EPA).

ACTION: Notice.

SUMMARY: This notice announces the availability of EPA's draft human health occupational and residential risk assessment for the registration review of Dimethyl Tetrachloroterephthalate (DCPA) for the registered uses of DCPA and opens a public comment period on the assessment. The risk assessment is accompanied by several related documents, including an assessment of the benefits associated with the use of DCPA and a companion document to aid in interpretation of the risk assessment and provide an explanation of the approach being considered by EPA to address the potential risks.

DATES: Comments must be received on or before July 3, 2023.

ADDRESSES: Submit your comments, identified by docket identification (ID) number EPA-HQ-OPP-2011-0374, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: James Douglass, Chemical Review Manager, Pesticide Re-Evaluation Division (7508M), Office of Pesticide Programs, Environmental Protection Agency, 1200 Pennsylvania Ave. NW, Washington, DC 20460-0001; telephone number: (202) 566-2343; email address: douglass.james@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. Background

Registration review is EPA's periodic review of pesticide registrations to ensure that each pesticide continues to satisfy the statutory standard for registration, that is, the pesticide can perform its intended function without unreasonable adverse effects on human health or the environment. Through this program, required by FIFRA section 3(g), 7 U.S.C. 136a(g), EPA must ensure that each pesticide's registration is based on current scientific and other knowledge, including its effects on human health and the environment. As part of the registration review process, the Agency has completed a draft occupational and residential risk assessment for the registered uses of DCPA. DCPA is an herbicide used to control grassy and broadleaf weeds on a variety of use sites including cole crops, onions, and turf. The Agency is taking the unusual step of publishing the DCPA occupational and residential risk assessment in advance of other pieces of the human health risk assessment and the ecological risk assessment because of newly submitted data on the toxicity of DCPA. These data, from a Comparative Thyroid Assay conducted in rats, suggest that there are potential risks for people exposed to DCPA during their work and leisure activities. The Agency anticipates that there is the potential for some pregnant workers to be exposed to levels of DCPA that are sufficient to cause thyroid hormone perturbations in the fetuses they are carrying. In order to determine the best path forward, the Agency is seeking comments on the draft occupational and residential risk assessment. The assessment is accompanied by several related documents, including an assessment of the benefits associated with the use of DCPA and a companion document to aid in interpretation of the risk assessment and to explain the approach being considered by EPA to address the potential risks. After reviewing comments received during the public comment period, EPA plans to respond to those comments and, if warranted, will issue a revised risk assessment. EPA encourages public input on all aspects of the assessment and mitigation of the potential occupational and residential risks for DCPA. The Agency will also keep the public advised on aspects related to risk mitigation as warranted.

III. Authority

EPA is conducting its registration review of DCPA pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.53(c), this notice announces the availability of EPA's draft human health occupational and residential risk assessment for the pesticide DCPA and opens a 30-day public comment period on the risk assessment. In order to expedite Agency action to address the risks posed by DCPA, the comment period will not be extended. The Agency will consider all comments received during the public comment period and make changes, as appropriate, to the draft risk assessment. After the close of the public comment period, EPA may, as needed, issue a revised occupational and residential risk assessment, explain any changes to the draft risk assessment, and respond to comments. Public comments received during the 30-day comment period will help inform the Agency's next steps. Unless any new information comes to light during this time that significantly changes the risk conclusions, the Agency is considering if cancellation of all DCPA product registrations is necessary.

Information Submission Requirements

Anyone may submit data or information in response to this document. To be considered during a pesticide's registration review, the submitted data or information must meet the following requirements:

• To ensure that EPA will consider data or information submitted, interested persons must submit the data or information during the comment period. The Agency may, at its discretion, consider data or information submitted at a later date.

• The data or information submitted must be presented in a legible and useable form. For example, an English translation must accompany any material that is not in English, and a written transcript must accompany any information submitted as an audio graphic or videographic record. Written material may be submitted in paper or electronic form.

• Submitters must clearly identify the source of any submitted data or information.

• Submitters may request the Agency to reconsider data or information that the Agency rejected in a previous review. However, submitters must explain why they believe the Agency should reconsider the data or information in the pesticide's registration review.

As provided in 40 CFR 155.58, the registration review docket for DCPA will remain publicly accessible through the duration of the registration review process; that is, until all actions required in the final decision on the registration review case have been completed.

Authority: 7 U.S.C. 136 et seq.

Dated: May 25, 2023.
Mary Elissa Reaves,
Director, Pesticide Re-Evaluation Division, Office of Pesticide Programs.

[FR Doc. 2023-11664 Filed 5-31-23; 8:45 am]

BILLING CODE 6560-50-P